DEPARTMENT OF AGRICULTURE

National Agricultural Statistics Service

Notice of Intent To Revise and Extend a Currently Approved Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intention of the National Agricultural Statistics Service (NASS) to request a revision to and extension of a currently approved information collection, the Wildlife Damage Control Survey.

DATES: Comments on this notice must be received by October 17, 2001 to be assured of consideration.

FOR FURTHER INFORMATION CONTACT: Contact Rich Allen, Associate Administrator, National Agricultural Statistics Service, U.S. Department of Agriculture, Room 4117 South Building, 1400 Independence Avenue SW., Washington, DC 20250-2001, (202) 720-4333.

SUPPLEMENTARY INFORMATION: Title: Wildlife Damage Control Survey.

OMB Control Number: 0535-0217.

Expiration Date of Approval: April 30, 2002.

Type of Request: Intent to Revise and Extend a Currently Approved Information Collection.

Abstract: The Wildlife Services Division of the Animal Health Plant Inspection Service, USDA, has contracted with NASS to survey a sample of U.S. producers of selected agricultural commodities. The primary goal of the survey is the collection of valid statistical data from agricultural producers who have experienced the loss of product or resources from vertebrate wildlife and the measurement of monetary losses. Additional goals are to evaluate Wildlife Services name recognition and test the efficacy of Wildlife Services programs in reducing crop and livestock losses.

The current information collection was approved for surveys of losses to specific livestock such as cattle and sheep and previous collections have been approved to measure losses of crops such as corn and fruits. The proposed survey for January 2002 is a standalone general wildlife damage survey, to be followed by annual commodity-specific surveys which will usually be integrated with regular NASS probability surveys. These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 12 minutes per response.

Respondents: Agricultural Commodity Producers.

Estimated Number of Respondents: 12,000.

Estimated Total Annual Burden on Respondents: 2,400 hours.

Copies of this information collection and related instructions can be obtained without charge from Ginny McBride, the Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, Room 5336B South Building, 1400 Independence Avenue SW., Washington, DC 20250-2024 or gmcbride@nass.usda.gov. All responses to this notice will become a matter of public record and be summarized in the request for OMB approval.

Signed at Washington, DC, July 20, 2001.
Rich Allen,
Associate Administrator.

[FR Doc. 01-20247 Filed 8-10-01; 8:45 am]

BILLING CODE 3410-20-P